DEPARTMENT OF THE TREASURY

Submission for OMB Review; Comment Request

May 6, 2009.

The Department of the Treasury will submit the following public information collection requirement(s) to OMB for review and clearance under the Paperwork Reduction Act of 1995, Public Law 104-13, on or after the publication date of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before June 15, 2009 to be assured of consideration.

Bureau of Public Debt (BPD)

OMB Number: 1535-0126.

Type of Review: Revision.

Title: Application for Issue of United States Mortgage Guaranty Insurance Company Tax and Loss Bonds.

Forms: PDF 3871.

Description: Submitted by companies engaged in the business of writing mortgage guaranty insurance for purpose of purchasing “Tax and Loss” bonds.

Respondents: Businesses or other for-profits.

Estimated Total Burden Hours: 8 hours.

OMB Number: 1535-0032.

Type of Review: Extension.

Title: Application for disposition of Retirement Plan/Individual Retirement Bonds Without Admin. of Deceased Owners Estate.

Forms: PDF 3565.

Description: Used by heirs of deceased owners of Retirement Plan/Indiv. Retirement Bonds to request disposition.

Respondents: Individuals or Households.

Estimated Total Burden Hours: 17 hours.

OMB Number: 1535-0012.

Type of Review: Extension.

Title: Request by Fiduciary for Reissue of United States Savings Bonds.

Forms: PDF 1455.

Description: Used by fiduciary to request distribution of U.S. Savings Bonds to the person(s) entitled.

Respondents: Individuals or Households.

Estimated Total Burden Hours: 8,850 hours.

OMB Number: 1535-0102.

Type of Review: Extension.

Title: Supporting Statement of Ownership for Overdue United States Bearer Securities.

Forms: PDF 1071.

Description: Used to establish ownership and support a request for payment.

Respondents: Individuals or Households.

Estimated Total Burden Hours: 250 hours.

Clearance Officer: Judi Owens (304) 480-8150, Bureau of the Public Debt, 200 Third Street, Parkersburg, West Virginia 26106.

OMB Reviewer: Shagufta Ahmed (202) 395-7873, Office of Management and Budget, Room 10235, New Executive Office Building, Washington, DC 20503.

Celina Elphage,
Treasury PRA Clearance Officer.

[FR Doc. E9-11208 Filed 5-13-09; 8:45 am]

BILLING CODE 4810-39-P